Proclamation 8834 of June 1, 2012

Lesbian, Gay, Bisexual, and Transgender Pride Month, 2012

By the President of the United States of America

A Proclamation

From generation to generation, ordinary Americans have led a proud and inexorable march toward freedom, fairness, and full equality under the law—not just for some, but for all. Ours is a heritage forged by those who organized, agitated, and advocated for change; who wielded love stronger than hate and hope more powerful than insult or injury; who fought to build for themselves and their families a Nation where no one is a second-class citizen, no one is denied basic rights, and all of us are free to live and love as we see fit.

The lesbian, gay, bisexual, and transgender (LGBT) community has written a proud chapter in this fundamentally American story. From brave men and women who came out and spoke out, to union and faith leaders who rallied for equality, to activists and advocates who challenged unjust laws and marched on Washington, LGBT Americans and allies have achieved what once seemed inconceivable. This month, we reflect on their enduring legacy, celebrate the movement that has made progress possible, and recommit to securing the fullest blessings of freedom for all Americans.

Since I took office, my Administration has worked to broaden opportunity, advance equality, and level the playing field for LGBT people and communities. We have fought to secure justice for all under the Matthew Shepard and James Byrd, Jr., Hate Crimes Prevention Act, and we have taken action to end housing discrimination based on sexual orientation and gender identity. We expanded hospital visitation rights for LGBT patients and their loved ones, and under the Affordable Care Act, we ensured that insurance companies will no longer be able to deny coverage to someone just because they are lesbian, gay, bisexual, or transgender. Because we understand that LGBT rights are human rights, we continue to engage with the international community in promoting and protecting the rights of LGBT persons around the world. Because we repealed “Don't Ask, Don't Tell,” gay, lesbian, and bisexual Americans can serve their country openly, honestly, and without fear of losing their jobs because of whom they love. And because we must treat others the way we want to be treated, I personally believe in marriage equality for same-sex couples.

More remains to be done to ensure every single American is treated equally, regardless of sexual orientation or gender identity. Moving forward, my Administration will continue its work to advance the rights of LGBT Americans. This month, as we reflect on how far we have come and how far we have yet to go, let us recall that the progress we have made is built on the words and deeds of ordinary Americans. Let us pay tribute to those who came before us, and those who continue their work today; and let us rededicate ourselves to a task that is unending—the pursuit of a Nation where all are equal, and all have the full and unfettered opportunity to pursue happiness and live openly and freely.

NOW, THEREFORE, I, BARACK OBAMA, President of the United States of America, by virtue of the authority vested in me by the Constitution and the laws of the United States, do hereby proclaim June 2012 as Lesbian, Gay, Bisexual, and Transgender Pride Month. I call upon the people of the United States to eliminate prejudice everywhere it exists, and to celebrate the great diversity of the American people.

IN WITNESS WHEREOF, I have hereunto set my hand this first day of June, in the year of our Lord two thousand twelve, and of the Independence of the United States of America the two hundred and thirty-sixth.

[FR Doc. 2012-13949

Filed 6-6-12; 8:45 am]

Billing code 3295-F2-P